DEPARTMENT OF ENERGY

Federal Energy Regulatory Commission

Combined Notice of Filings #1

Take notice that the Commission received the following electric rate filings:

Docket Numbers: ER11-2159-005; ER10-2609-011; ER10-2606-011;ER10-2602-012.

Applicants: Verso Maine Energy LLC, NewPage Energy Services LLC, Escanaba Paper Company, Consolidated Water Power Company.

Description: Supplement to June 30, 2015 Updated Market Power Analysis for the Central Region of Verso MBR Entities.

Filed Date: 11/17/15.

Accession Number: 20151117-5169.

Comments Due: 5 p.m. ET 11/27/15.

Docket Numbers: ER14-1153-002; ER11-2159-004; ER10-2609-010; ER10-2606-010; ER10-2604-008; ER10-2602-011; ER10-2543-003.

Applicants: Verso Androscoggin LLC, Verso Androscoggin Power LLC, Verso Maine Energy LLC, Luke Paper Company, New Page Energy Services, Inc., Consolidated Water Power Company, Escanaba Paper Company.

Description: Second Supplement to February 6, 2015 Notice of Non-Material Change in Status of the Verso MBR and NewPage MBR Entities.

Filed Date: 11/17/15.

Accession Number: 20151117-5170.

Comments Due: 5 p.m. ET 11/27/15.

Docket Numbers: ER14-1656-006.

Applicants: CSOLAR IV WEST, LLC.

Description: Notification of Change in Status of CSOLAR IV WEST, LLC.

Filed Date: 11/18/15.

Accession Number: 20151118-5194.

Comments Due: 5 p.m. ET 12/9/15.

Docket Numbers: ER14-2762-002.

Applicants: Midcontinent Independent System Operator, Inc.

Description: Midcontinent Independent System Operator, Inc. submits tariff filing per 35.19a(b): Refund Report to be effective N/A.

Filed Date: 11/18/15.

Accession Number: 20151118-5099.

Comments Due: 5 p.m. ET 12/9/15.

Docket Numbers: ER15-765-002.

Applicants: Midcontinent Independent System Operator, Inc.

Description: Compliance filing: 2015-11-16_SA 6509 White Pine 2 SSR Agreement (Settlement) to be effective 1/1/2015.

Filed Date: 11/16/15.

Accession Number: 20151116-5105.

Comments Due: 5 p.m. ET 12/7/15.

Docket Numbers: ER15-2477-000.

Applicants: Golden Hills Wind, LLC.

Description: Amendment to August 18, 2015, September 29, 2015 and October 16, 2015 Golden Hills Wind, LLC tariff filing.

Filed Date: 11/18/15.

Accession Number: 20151118-5199.

Comments Due: 5 p.m. ET 11/30/15.

Docket Numbers: ER16-342-000.

Applicants: PJM Interconnection, L.L.C.

Description: § 205(d) Rate Filing: Service Agreement No. 4295; Queue No. Y3-033 to be effective 10/19/2015.

Filed Date: 11/18/15.

Accession Number: 20151118-5046.

Comments Due: 5 p.m. ET 12/9/15.

Docket Numbers: ER16-348-000.

Applicants: ISO New England Inc., Eversource Energy Service Company.

Description: § 205(d) Rate Filing: The Conn. Light & Power Co., Public Service Co. of NH & Western Mass Electric Co to be effective 1/18/2016.

Filed Date: 11/18/15.

Accession Number: 20151118-5140.

Comments Due: 5 p.m. ET 12/9/15.

Docket Numbers: ER16-349-000.

Applicants: Pacific Gas and Electric Company.

Description: § 205(d) Rate Filing: E&P Agreement for RE Tranquillity 8 LLC to be effective 11/19/2015.

Filed Date: 11/18/15.

Accession Number: 20151118-5155.

Comments Due: 5 p.m. ET 12/9/15.

Docket Numbers: ER16-350-000.

Applicants: California Independent System Operator Corporation.

Description: Compliance filing: 2015-11-18 Tariff Record Overlap Compliance Filing to be effective 9/10/2010.

Filed Date: 11/18/15.

Accession Number: 20151118-5156.

Comments Due: 5 p.m. ET 12/9/15.

Docket Numbers: ER16-351-000.

Applicants: KCP&L Greater Missouri Operations Company.

Description: § 205(d) Rate Filing: Rate Schedule 137 to be effective 1/17/2016.

Filed Date: 11/18/15.

Accession Number: 20151118-5157.

Comments Due: 5 p.m. ET 12/9/15.

Docket Numbers: ER16-352-000.

Applicants: Midcontinent Independent System Operator, Inc.

Description: § 205(d) Rate Filing: 2015-11-18_SA 2870 Minnesota Power Zemple Substation TIA to be effective 11/13/2015.

Filed Date: 11/18/15.

Accession Number: 20151118-5170.

Comments Due: 5 p.m. ET 12/9/15.

Docket Numbers: ER16-353-000.

Applicants: PJM Interconnection, L.L.C.

Description: § 205(d) Rate Filing: Original Service Agreement No. 4301; Queue #Z2-088/AA1-050 to be effective 10/19/2015.

Filed Date: 11/18/15.

Accession Number: 20151118-5175.

Comments Due: 5 p.m. ET 12/9/15.

Take notice that the Commission received the following public utility holding company filings:

Docket Numbers: PH16-1-000.

Applicants: Energy Transfer Equity, L.P.

Description: Energy Transfer Equity, L.P. submits FERC 65-A Exemption Notification.

Filed Date: 11/18/15.

Accession Number: 20151118-5195.

Comments Due: 5 p.m. ET 12/9/15.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2015.
Nathaniel J. Davis, Sr.,
Deputy Secretary.

[FR Doc. 2015-29961 Filed 11-24-15; 8:45 am]

BILLING CODE 6717-01-P